DEPARTMENT OF COMMERCE

International Trade Administration

[A-823-808]

Agreement Suspending the Antidumping Investigation of Certain Cut-to-Length Carbon Steel Plate From Ukraine: Final Results of Administrative Review; 2018-2019

AGENCY: Enforcement and Compliance, International Trade Administration, Department of Commerce.

SUMMARY: The Department of Commerce (Commerce) determines in this administrative review of the Agreement Suspending the Antidumping Investigation of Certain Cut-to-Length Carbon Steel Plate from Ukraine (Agreement) that signatory Ukrainian producers/exporters Azovstal Iron & Steel Works (Azovstal) and Ilyich Iron and Steel Works (Ilyich), which are subsidiaries of Metinvest Holding LLC (Metinvest), are in compliance with the Agreement and that the Agreement is meeting the statutory requirements under sections 734(b) and (d) of the Tariff Act of 1930, as amended (the Act). The period of review (POR) is November 1, 2018 through October 31, 2019.

DATES: Applicable June 3, 2021.

FOR FURTHER INFORMATION CONTACT: Sally C. Gannon or Jill Buckles, Bilateral Agreements Unit, Enforcement and Compliance, International Trade Administration, U.S. Department of Commerce, 1401 Constitution Avenue NW, Washington, DC 20230; telephone: (202) 482-0162 or (202) 482-6230, respectively.

SUPPLEMENTARY INFORMATION:

Background

On March 24, 2021, Commerce published the Preliminary Results of the administrative review of the Agreement.¹ The administrative review covers signatory Ukrainian producers/exporters Azovstal and Ilyich, which are subsidiaries of Metinvest and were individually examined in this review. We invited interested parties to comment on the Preliminary Results. No interested party submitted comments. Hence, these final results are unchanged from the Preliminary Results.

¹ See Agreement Suspending the Antidumping Investigation of Certain Cut-To-Length Carbon Steel Plate from Ukraine: Preliminary Results of 2018-2019 Administrative Review, 86 FR 15647 (March 24, 2021) (Preliminary Results), and accompanying Preliminary Decision Memorandum (PDM).

Scope of Review

For purposes of this Agreement, the products covered are hot-rolled iron and non-alloy steel universal mill plates (i.e., flat-rolled products rolled on four faces or in a closed box pass, of a width exceeding 150 mm but not exceeding 1250 mm and of a thickness of not less than 4 mm, not in coils and without patterns in relief), of rectangular shape, neither clad, plated nor coated with metal, whether or not painted, varnished, or coated with plastics or other nonmetallic substances; and certain iron and non-alloy steel flat-rolled products not in coils, of rectangular shape, hot-rolled, neither clad, plated, nor coated with metal, whether or not painted, varnished, or coated with plastics or other nonmetallic substances, 4.75 mm or more in thickness and of a width which exceeds 150 mm and measures at least twice the thickness. Included as subject merchandise in the Agreement are flat-rolled products of nonrectangular cross-section where such cross-section is achieved subsequent to the rolling process (i.e., products which have been “worked after rolling”) for example, products which have been bevelled or rounded at the edges.

This merchandise is currently classified in the Harmonized Tariff Schedule of the United States (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Although the HTS subheadings are provided for convenience and customs purposes, the written description of the scope of the Agreement is dispositive. Specifically excluded from subject merchandise within the scope of the Agreement is grade X-70 plate.

Final Results of the Administrative Review

As a result of this administrative review, we continue to find Azovstal and Ilyich, collectively participating as Metinvest, to be in compliance with the terms of the Agreement during the POR and that the Agreement is meeting the statutory requirements under sections 734(b) and (d) of the Act. Commerce conducted this review in accordance with section 751(a)(1)(C) of the Act, which specifies that Commerce shall “review the current status of, and compliance with, any agreement by reason of which an investigation was suspended.”

Section 734(b) provides that Commerce may suspend an investigation if the exporters of the subject merchandise who account for substantially all of the imports of that merchandise agree to revise their prices to eliminate completely any amount by which the normal value (NV) of the merchandise which is the subject of the agreement exceeds the export price (or the constructed export price) of that merchandise. In addition, section 734(d) of the Act requires that Commerce be satisfied that suspension of the investigation is in the public interest and that effective monitoring of the agreement is practicable.

Commerce continues to find no evidence of non-compliance by Azovstal and Ilyich with respect to ensuring that subject merchandise is sold in the United States at prices that are at or above the applicable NV determined by Commerce. Therefore, Commerce continues to find for these final results that the Agreement is meeting the statutory requirements of section 734(b) of the Act. In addition, with regard to the requirements of 734(d) of the Act, Commerce continues to find for these final results that the Agreement is in the public interest and that effective monitoring of the Agreement is practicable.

Notification Regarding Administrative Protective Order

This notice also serves as a reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a sanctionable violation.

Notification to Interested Parties

Commerce is issuing and publishing these results of review in accordance with sections 751(a)(l) and 777(i)(l) of the Act and 19 CFR 351.213 and 19 CFR 351.221(b)(5).

Dated: May 27, 2021.
Christian Marsh,
Acting Assistant Secretary for Enforcement and Compliance.

[FR Doc. 2021-11673 Filed 6-2-21; 8:45 am]

BILLING CODE 3510-DS-P